DEPARTMENT OF HEALTH AND HUMAN SERVICES

Administration for Children and Families

Proposed Information Collection Activity; Comment Request

Proposed Projects:

Title: Refugee Assistance Program Estimates: CMA—ORR-1.

OMB No.: 0970-0030.

Description:

The Refugee Assistance Program Estimates: ORR-1 form is the application for funding for the Refugee Cash and Medical Assistance program. Applicants for funding provide estimates of costs of the different components of the program—Refugee Cash Assistance, Refugee Medical Assistance, Health Screening, Services to Unaccompanied Refugee Minors, Administrative Cost of the Services to Unaccompanied Refugee Minors program, and Administrative Costs of the State Refugee Coordinator. Applicants also submit a narrative justification for their estimates. Applicants submit the form annually on August 15 of the fiscal year prior to the fiscal year for which funds are being requested. The form may be submitted through an On-Line Data Collection system or hard copy format. The Office of Refugee Resettlement uses the cost estimate data from the ORR-1 in determining and allocating quarterly awards of funds and in projecting full year costs of this program.

Respondents:

Annual Burden Estimates
Instrument | Number of respondents | Number of responses per respondent | Average burden hours per response | Total burden hours
Refugee Assistance Program Estimates: ORR-1 | 46 | 1 | 2 | 92
Estimated Total Annual Burden Hours: |  |  |  | 92

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 22, 2011.
Robert Sargis,
Reports Clearance Officer.

[FR Doc. 2011-4278 Filed 2-24-11; 8:45 am]

BILLING CODE 4184-01-P